DEPARTMENT OF EDUCATION

National Board for Education Sciences; Meeting

AGENCY: Institute of Education Sciences, U.S. Department of Education.

ACTION: Notice.

SUMMARY: This notice sets forth the schedule and proposed agenda of an upcoming meeting of the National Board for Education Sciences (NBES). The notice also describes the functions of the Committee. Notice of this meeting is required by Section 10(a)(2) of the Federal Advisory Committee Act and is intended to notify the public of their opportunity to attend the meeting.

DATES: June 16, 2014.

Time: 9:00 a.m. to 3:30 p.m. Eastern Standard Time

ADDRESSES: 80 F Street NW., Large Board Room, Washington, DC 20001

FOR FURTHER INFORMATION CONTACT: Ellie Pelaez, 555 New Jersey Avenue NW., Room 600 E, Washington, DC 20208; phone: (202) 219-0644; fax: (202) 219-1402; email: Ellie.Pelaez@ed.gov.

SUPPLEMENTARY INFORMATION: The National Board for Education Sciences is authorized by Section 116 of the Education Sciences Reform Act of 2002 (ESRA), 20 U.S.C. 9516. The Board advises the Director of the Institute of Education Sciences (IES) on, among other things, the establishments of activities to be supported by the Institute, on the funding for applications for grants, contracts, and cooperative agreements for research after the completion of peer review, and reviews and evaluates the work of the Institute.

On June 16, 2014, starting at 9 a.m., the Board meeting will commence and members will approve the agenda. From 9:05 to 10:15 a.m., IES Director John Easton, and Commissioners of IES's national centers will give an overview of recent developments at IES. This session will be followed by a question and answer period regarding the Commissioners' reports. A break will take place from 10:15 to 10:30 a.m.

The Board meeting will resume from 10:30 to 12 p.m. when the Board will discuss the future of IES Training Grants. NBES Chair David Chard and John Easton will provide the opening remarks, followed by remarks from Thomas Brock, Commissioner of the National Center for Education Research (NCER) and Joan McLaughlin, Commissioner of the National Center for Special Education Research (NCSER). Roundtable discussion by board members will take place after. The meeting will break for lunch from 12 to 1 p.m.

From 1 p.m. to 3 p.m., the Board will consider the topic, “Multi-tiered Systems of Support in the Context of College and Career Readiness Standards.” Following opening remarks by David Chard and Joan McLauglin, Board members will hear remarks by IES-funded researchers with expertise in screening and progress monitoring, intervention, data-based decision making and professional development. A roundtable discussion of the topic will follow.

Closing remarks and a consideration of next steps from the IES Director and NBES Chair will take place from 3 p.m. to 3:30 p.m., with adjournment scheduled for 3:30 p.m.

There will not be an opportunity for public comment. However, members of the public are encouraged to submit written comments related to NBES to Ellie Pelaez (see contact information above). A final agenda is available from Ellie Pelaez (see contact information above) and is posted on the Board Web site http://ies.ed.gov/director/board/agendas/index.asp. Individuals who will need accommodations for a disability in order to attend the meeting (e.g., interpreting services, assistance listening devices, or materials in alternative format) should notify Ellie Pelaez no later than June 9, 2014. We will attempt to meet requests for accommodations after this date but cannot guarantee their availability. The meeting site is accessible to individuals with disabilities.

Records are kept of all Board proceedings and are available for public inspection at 555 New Jersey Avenue NW., Suite 602, Washington, DC 20208, from the hours of 9 a.m. to 5 p.m., Eastern Standard Time Monday through Friday.

Electronic Access to This Document: You may view this document, as well as other documents of this Department published in the Federal Register, in text or Adobe Portable Document Format (PDF) on the Internet at the following site: www.ed.gov/news/fed-register/index.html.

To use PDF you must have Adobe Acrobat Reader, which is available free at this site. If you have questions about using PDF, call the U.S. Government Printing Office (GPO), toll free at 1-866-512-1800; or in the Washington, DC area at (202) 512-0000.

Note: The official version of this document is the document published in the Federal Register. Free Internet access to this official edition of the Federal Register and the Code of Federal Regulations is available on GPO Access at: www.gpoaccess.gov/nara/index.html.

Dated: May 14, 2014.
John Q. Easton,
Director, Institute of Education Science.

[FR Doc. 2014-11543 Filed 5-16-14; 8:45 am]

BILLING CODE 4000-01-P